COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds to the Procurement List products and services to be furnished by nonprofit agencies employing persons who are blind or have other severe disabilities, and deletes from the Procurement List a product and a service previously furnished by such agencies.

EFFECTIVE DATE: June 1, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On February 28 and March 7, 2008, the Committee for Purchase From People Who Are Blind or Severely Disabled published notice (73 FR 11092; 12367) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Mop, Flat, Microfiber

NSN: 7920-00-NIB-0470—3M SKILCRAFT Easy Scrub Flat Mop Tool with 16″ pad holder.

NSN: 7920-00-NIB-0471—3M SKILCRAFT Easy Scrub Flat Mop 18″ pads, White.

NSN: 7920-00-NIB-0472—3M SKILCRAFT Easy Scrub Flat Mop 18″ pads, Blue.

NSN: 7920-00-NIB-0473—3M SKILCRAFT Easy Scrub Flat Mop 18″ pads, Red.

NSN: 7920-00-NIB-0474—3M SKILCRAFT Easy Scrub Flat Mop 18″ pads, Green.

NSN: 7920-00-NIB-0475—3M SKILCRAFT Easy Scrub Starter Kit.

NSN: 7920-00-NIB-0476—SKILCRAFT 18″ Blue Wet Mop.

NSN: 7920-00-NIB-0477—SKILCRAFT 24″ Blue Wet Mop.

NSN: 7920-00-NIB-0478—SKILCRAFT 18″ Yellow Dust Mop.

NSN: 7920-00-NIB-0479—SKILCRAFT 24″ Yellow Dust Mop.

NSN: 7920-00-NIB-0480—SKILCRAFT Flat Mop Handle with Frame 18″.

NSN: 7920-00-NIB-0481—SKILCRAFT Flat Mop Handle with Frame 24″.

NPA: New York City Industries for the Blind, Inc., Brooklyn, NY.

Coverage: C-List for the requirement of the Department of Veterans Affairs, Hines, IL.

Contracting Activity: Department of Veterans Affairs, National Contracts Division, Hines, IL.

Pushpins, Assorted Colors

NSN: 7510-01-207-3978.

NPA: Delaware County Chapter, NYSARC, Inc., Walton, NY.

Coverage: A-List for the total Government requirement as specified by the General Services Administration.

Contracting Activity: General Services Administration, Office Supplies & Paper Products Acquisition Ctr, New York, NY.

Peel & Stick, Non-Skid Kits

NSN: 2040-00-NIB-0333—Traction Material, 25 ft RBS USCG Boat Kit-770.

NSN: 2040-00-NIB-0336—Traction Material, 41 ft MLB USCG Boat Kit-770.

NSN: 2040-00-NIB-0339—Traction Material, 45 ft RBM USCG Boat Kit-770, 370, 310.

NSN: 2040-00-NIB-0342—Traction Material, 47 ft MLB USCG Boat Kit-770.

NSN: 2040-00-NIB-0345—Traction Material, 55 ft ANB USCG Boat Kit-770.

NSN: 2040-00-NIB-0348—Traction Material, 75 ft USCG Boat Kit-770.

NSN: 2040-00-NIB-0351—Traction Material, 87 ft WBP USCG Boat Kit-770.

NSN: 2040-00-NIB-0356—Traction Material, 110 ft USCG Boat Kit-770 (280).

NSN: 2040-00-NIB-0357—Traction Material, 110 ft USCG Boat Kit-770 (264).

NSN: 2040-00-NIB-0359—Traction Material, 27 ft UTM USCG Boat Kit-770.

NSN: 2040-00-NIB-0360—Traction Material, 23 ft UTM USCG Boat Kit-770.

NSN: 2040-00-NIB-0361—Traction Material, CBLII Boat Kit-770.

NSN: 2040-00-NIB-0362—Traction Material, 25 ft RB-HS USCG Boat Kit-770.

NSN: 2040-00-NIB-0363—Traction Material, 33 ft SPCLE USCG Boat Kit-770.

NSN: 2040-00-NIB-0364—Traction Material, 123 ft USCG Boat Kit-770.

NSN: 2040-00-NIB-0365—Traction Material, 225 ft USCG Boat Kit-770.

NPA: Louisiana Association for the Blind, Shreveport, LA.

Coverage: C-List for the requirements of the U.S. Coast Guard.

Contracting Activity: U.S. Coast Guard, Lockport, LA.

Services

Service Type/Location: Custodial Services, U.S. Department of Agriculture, Forest Service—District Office, 4000 I-75 Business Spur, Sault Sainte Marie, MI.

NPA: Northern Transitions, Inc., Sault Ste. Marie, MI.

Contracting Activity: Hiawatha National Forest, Escanaba, MI.

Service Type/Location: Document Destruction, Internal Revenue Service, 11 South 12th Street, 400 North 8th Street, 600 Main Street, Richmond, VA.

NPA: Goodwill Services, Inc., Richmond, VA.

Service Type/Location: Document Destruction, Internal Revenue Service, 204 S. Walnut St., Florence, AL.

Service Type/Location: Document Destruction, Internal Revenue Service, 2204 Lakeshore Drive, Suite 210, Birmingham, AL.

Service Type/Location: Document Destruction, Internal Revenue Service, 806 Governors Drive, SW., Huntsville, AL.

NPA: United Cerebral Palsy of Greater Birmingham, Inc., Birmingham, AL.

Service Type/Location: Document Destruction, Internal Revenue Service, 2203 N. Lois Avenue, 3848 W. Columbus Drive, Tampa, FL.

Service Type/Location: Document Destruction, Internal Revenue Service, 9450 Koger Boulevard, St. Petersburg, FL.

NPA: Louise Graham Regeneration Center, Inc., St. Petersburg, FL.

Contracting Activity: U.S. Department of the Treasury, Internal Revenue Service, Chamblee, GA.

Service Type/Location: Grounds Maintenance, Naval Submarine Base, New London, Basewide, Groton, CT.

NPA: CW Resources, Inc., New Britain, CT.

Contracting Activity: Naval Facilities Engineering Command, Mid-Atlantic, Groton, CT.

Deletions

On March 7, 2008, the Committee for Purchase From People Who Are Blind or Severely Disabled published notice (73 FR 12368) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the product and service to the Government.

3. There are no known regulatory alternatives which would accomplish the objectives of the Javits-Wagner-O'Day Act (41 U.S.C. 46-48c) in connection with the product and service deleted from the Procurement List.

End of Certification

Accordingly, the following product and service are deleted from the Procurement List:

Product

Paperweight, Shotfilled

NSN: 7510-00-286-6985.

NPA: New Mexico Industries for the Blind, Albuquerque, NM.

Contracting Activity: General Services Administration, Office Supplies & Paper Products Acquisition Ctr, New York, NY.

Service

Service Type/Location: Janitorial/Custodial, Abingdon Memorial USARC, Abingdon, VA.

NPA: Highlands Community Services Board, Bristol, VA.

Contracting Activity: 99th USAR Regional Support Command, Coraopolis, PA.

Kimberly M. Zeich,
Director, Program Operations.

[FR Doc. E8-9684 Filed 5-1-08; 8:45 am]

BILLING CODE 6353-01-P